NATIONAL SCIENCE FOUNDATION

Advisory Committee for Polar Programs; Committee of Visitors; Notice of Meeting

In accordance with the Federal Advisory Committee Act (Pub. L. 92-463, as amended), the National Science Foundation announces the following meeting:

Name: Advisory Committee for Polar Programs (1130); Committee of Visitors.

Date/Time: July 25-26, 2000, 8:00 A.M. to 5:30 P.M.; and July 27, 2000 1:00 P.M.-5:00 P.M.

Place: NSF, 4201 Wilson Blvd., Room 1235, Arlington, VA 22230.

Type of Meeting: Part-Open.

Contact Person: Altie Metcalf, Budget and Planning Officer, Room 755, National Science Foundation, 4201 Wilson Blvd., Arlington, VA 22230. (703) 306-1030.

Purpose of Meeting: To carry out Committee of Visitors review, including program evaluation and GPRA assessments.

Agenda: Closed: July 25, 2000, 1:00-5:30; and July 26, 2000, 8:30-10:00. To review the merit review processes covering funding decisions made during the immediately preceding three fiscal years.

Open: July 25, 2000, 8:00-12:00; July 26, 2000, 10:15-5:30; and July 27, 2000 1:00-5:00. To assess results of NSF program investments. This shall involve a discussion and review of results focused on NSF and grantee outputs and related outcomes achieved or realized during the preceding three fiscal years. These results may be based on NSF grants or other investments made in earlier years.

Reason for Closing: During the closed session, the COV will be reviewing proposals that will include information of a proprietary or confidential nature, including technical information; financial data, such as salaries; and personal information concerning individuals associated with the proposals. These matters are exempt under 5 U.S.C. 552b(c), (4) and (6) of the Government in the Sunshine Act.

Dated: July 5, 2000.
Karen J. York,
Committee Management Officer.

[FR Doc. 00-17432 Filed 7-10-00; 8:45 am]

BILLING CODE 7555-01-M